ENVIRONMENTAL PROTECTION AGENCY

[FRL-9749-2]

Workshop To Define Approaches To Assess the Effectiveness of Policies To Reduce PM2.5

AGENCY: Environmental Protection Agency (EPA).

ACTION: Notice of workshop.

SUMMARY: EPA is announcing a workshop to identify approaches to assess the effectiveness of policies that reduce ambient levels of PM2.5. The workshop is being organized by EPA's Office of Air Quality Planning and Standards (OAQPS) and the Office of Research and Development (ORD), and will be held on January 7, 2013, in Research Triangle Park, North Carolina. Reservations for the workshop will be open to the public on a first-come, first-served basis due to limited space.

DATES: The workshop will be held on January 7, 2013.

ADDRESSES: The workshop will be held in the Auditorium of EPA's RTP main campus, 109 T.W. Alexander Dr., Research Triangle Park, NC. An EPA contractor, EC/R, is organizing the workshop.

FOR FURTHER INFORMATION CONTACT: Questions regarding information, registration, and logistics for the workshop should be directed to Becky Battye, EC/R, Inc., Conference Coordinator, 501 Eastowne Dr., Suite 250, Chapel Hill, NC 27514; telephone: 919-443-8321; email battye.becky@ecrweb.com. Questions regarding the scientific and technical aspects of the workshop should be directed to Neal Fann, telephone: 919-541-0209; facsimile: 919-541-5315; email: Fann.Neal@epa.gov.

SUPPLEMENTARY INFORMATION:

I. Summary of Information About the Workshop

Significant reductions in ambient levels of particulate matter with aerodynamic diameter less than 2.5 micrometers (PM2.5) have occurred over the past few decades and more are expected with the implementation of recently promulgated rules. PM2.5 is associated with adverse human health effects, such as respiratory and cardiovascular diseases. Emissions of sulfur dioxide (SO2) from power plants have decreased substantially in recent years and further reductions are expected. As a result of reductions in SO2, a precursor to PM2.5, commensurate reductions in PM2.5 have occurred and are expected to further decrease throughout the eastern U.S. Considerable reductions of PM2.5 and its precursors are also expected in the western U.S. and in coastal areas due to truck and marine engine rules associated with ports and goods movement. In combination, marked reductions are expected in PM2.5 and its precursors as well as alteration of the overall composition of PM2.5 in many areas of the U.S. This constitutes an opportunity to evaluate the effect of changes in the composition of air pollution in urban areas that will occur over both time and space.

The purposes of this workshop are to (1) Discuss previous accountability work, (2) identify data needs, and (3) discuss approaches that may be used to prospectively design research to assess the public health benefits from implementation of these large-scale changes in levels of air pollution. Consistent with the recent North American Research Strategy for Tropospheric Ozone report titled, “Technical Challenges of Multipollutant Air Quality Management” this workshop aims to ensure that the necessary methods and data will be available to verify the relationship between reductions in air pollution emissions, ambient concentrations, human exposures and public health benefits to determine whether the regulations are implemented as originally projected and the intended benefits are realized. Discussions will focus on improving the limitations identified in earlier studies, especially in relation to interpretation of the study and ensuring proper study design, collected data and analytical approaches. To meet these objectives, the workshop has been organized with invited expert panelists to build on previous work and identify critical data needs.

II. Workshop Information

Members of the public may attend the workshop as observers. Space is limited, and reservations will be accepted on a first-come, first-served basis.

Dated: October 26, 2012.
Mary E. Henigin,
Acting Director, Office of Air Quality Planning and Standards, Office of Air and Radiation.

[FR Doc. 2012-27228 Filed 11-6-12; 8:45 am]

BILLING CODE 6560-50-P